DEPARTMENT OF THE INTERIOR

National Park Service

National Register of Historic Places; Notification of Pending Nominations and Related Actions

Nominations for the following properties being considered for listing or related actions in the National Register were received by the National Park Service before February 7, 2009.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by March 9, 2009.

J. Paul Loether,
Chief, National Register of Historic Places/National Historic Landmarks Program.

CONNECTICUT

Hartford County

Commercial Trust Company Building, 51-55 W. Main St., New Britain, 09000141

IOWA

Hardin County

Folkert Mound Group, Address Restricted, Steamboat Rock, 09000126

Johnson County

Wetherby, Isaac A., House, 611 N. Governor, Iowa City, 09000127

MICHIGAN

Genesee County

Hotel Durant, 607 E. 2nd Ave., Flint, 09000128

Oakland County

O'Dell, H. Augustus and Agnes Cleveland, House—Inch House, 1945 Tiverton Rd., Bloomfield Hills, 09000129

Shiawassee County

Durand High School, 100 W. Sycamore St., Durand, 09000130

NEBRASKA

Douglas County

Federal Office Building, 106 S. 15th St., Omaha, 09000131

NEW JERSEY

Monmouth County

First Presbyterian Church of Rumson, 4 E. River Rd., Rumson, 09000132

NEW YORK

Chautauqua County

Midway Park, NY 430, Maple Springs, 09000133

Greene County

Woodward Road Stone Arch Bridge, Woodward Rd., E. Durham, 09000134

New York County

SHEARWATER (schooner), N. Cove Marina, New York, 09000135

Suffolk County

Tuthill-Lapham House, 324 Sound Rd., at corner of Sunset Blvd., Wading River, 09000136

TENNESSEE

Lawrence County

Garrett House, 205 S. Military Ave., Lawrenceburg, 09000137

TEXAS

Comal County

Faust Street Bridge, (Historic Bridges of Texas MPS), Connecting Faust and Porter Streets at the Guadalupe River, New Braunfels, 09000138

Johnson County

Wright Building, 1 E. James St., Cleburne, 09000139

McLennan County

Waco High School, 815 Columbus, Waco, 09000140

[FR Doc. E9-3673 Filed 2-19-09; 8:45 am]

BILLING CODE 4310-70-P